DEPARTMENT OF HEALTH AND HUMAN SERVICES

Food and Drug Administration

21 CFR Part 172

[Docket No. FDA-1986-F-0425 (formerly Docket No. 1986F-0208)]

Ranks, Hovis, McDougall Research, Ltd.; Withdrawal of Food Additive Petition

AGENCY: Food and Drug Administration, HHS.

ACTION: Notification; withdrawal of petition.

SUMMARY: The Food and Drug Administration (FDA or we) is announcing the withdrawal, without prejudice to a future filing, of a food additive petition (FAP 6A3930) proposing that the food additive regulations be amended to provide for the safe use of mycoprotein, derived from Fusarium graminearum (taxonomically reclassified as Fusarium venenatum), as a source of protein in certain foods.

DATES: The food additive petition was withdrawn on February 28, 2022.

ADDRESSES: For access to the docket to read background documents or comments received, go to https://www.regulations.gov and insert the docket number found in brackets in the heading of this document into the “Search” box and follow the prompts, and/or go to the Dockets Management Staff, 5630 Fishers Lane, Rm. 1061, Rockville, MD 20852.

FOR FURTHER INFORMATION CONTACT: Paulette M. Gaynor, Center for Food Safety and Applied Nutrition, Food and Drug Administration, 5001 Campus Dr., College Park, MD 20740, 240-402-1192.

SUPPLEMENTARY INFORMATION: In a notice published in the Federal Register of May 30, 1986 (51 FR 19610),¹ we announced that we had filed a food additive petition (FAP 6A3930), submitted by Ranks, Hovis, McDougall Research, Ltd., c/o 2550 M St. NW, Washington, DC 20037. Responsibility for the petition subsequently transferred to Marlow Foods Ltd. (currently Marlow Foods Ltd. dba Quorn Foods (Marlow) c/o 1401 Eye St. NW, Suite 800, Washington, DC 20005). The petition proposed to amend the food additive regulations in 21 CFR part 172 to provide for the safe use of mycoprotein, derived from Fusarium graminearum (taxonomically reclassified as Fusarium venenatum), as a direct source of protein in certain foods. Marlow has now withdrawn the petition without prejudice to a future filing (21 CFR 171.7).

¹ Although the filing notice refers to the subject as “myco-protein,” we are using a nonhyphenated name (i.e., “mycoprotein”) in this withdrawal notification.

Dated: April 29, 2022.
Lauren K. Roth,
Associate Commissioner for Policy.

[FR Doc. 2022-09609 Filed 5-4-22; 8:45 am]

BILLING CODE 4164-01-P